DEPARTMENT OF THE TREASURY

Bureau of the Public Debt

Senior Executive Service; Public Debt Performance Review Board (PRB)

AGENCY: Treasury Department, Bureau of the Public Debt.

ACTION: Notice of Members of Public Debt Performance Review Board (PRB).

SUMMARY: Pursuant to 5 U.S.C. 4314(c)(4), this notice announces the appointment of the members of the Public Debt Performance Review Board (PDPRB) for the Bureau of the Public Debt (BPD). The Board reviews the performance appraisals of career senior executives below the level of Assistant Commissioner/Executive Director who are not assigned to the Office of the Commissioner in the Bureau of the Public Debt. The Board makes recommendations regarding proposed performance appraisals, ratings, bonuses, pay adjustments, and other appropriate personnel actions.

Composition of the Public Debt PRB: The names and titles of the Public Debt PRB members are as follows:

Primary Members

Nancy Fleetwood, Deputy Commissioner, Office of the Commissioner, BPD.

Anita Shandor, Assistant Commissioner, Office of Financing, BPD.

Cynthia Z. Springer, Executive Director, Administrative Resource Center, BPD.

John R. Swales, III, Assistant Commissioner, Office of Retail Securities, BPD.

Alternate Members

Fredrick A. Pyatt, Assistant Commissioner, Office of Management Services, BPD.

DATES: Membership is effective on September 30, 2007.

FOR FURTHER INFORMATION CONTACT: Angela Jones, Director, Human Resources Division, Bureau of the Public Debt, 200 Third Street, Parkersburg, WV 26106-5312, Telephone Number: 304-480-8302.

Dated: September 10, 2007.
Van Zeck,
Commissioner, Bureau of the Public Debt.

[FR Doc. E7-18329 Filed 9-17-07; 8:45 am]

BILLING CODE 4810-39-P